DEPARTMENT OF ENERGY

Federal Energy Regulatory Commission

Combined Notice of Filings #1

June 30, 2005.

Take notice that the Commission received the following electric rate filings.

Docket Numbers: ER01-2887-005; ER01-2688-007; ER99-2858-007; ER02-1406-007.

Applicants: South Point Energy Center, LLC; Gilroy Energy Center, LLC; MEP Pleasant Hill, LLC; Acadia Power Partners, LLC.

Description: South Point Energy Center, LLC, Gilroy Energy Center, LLC, MEP Pleasant Hill, LLC, and Acadia Power Partners, LLC, in compliance with the Commission's order issued 5/26/05 (111 FERC ¶ 61,239 (2005)), submit their respective revised market-based rate schedules to incorporate the change in status reporting requirement pursuant to Order 652.

Filed Date: 06/24/2005.

Accession Number: 20050629-0221.

Comment Date: 5 p.m. eastern time on Friday, July 15, 2005.

Docket Numbers: ER02-1695-003; ER02-2309-002.

Applicants: Cabazon Wind Partners, LLC; Whitewater Hill Wind Partners, LLC.

Description: Cabazon Wind Partners, LLC and Whitewater Hill Wind Partners, LLC submit their consolidated triennial updated market analysis.

Filed Date: 06/24/2005.

Accession Number: 20050628-0065.

Comment Date: 5 p.m. eastern time on Friday, July 15, 2005.

Docket Numbers: ER03-1368-002; ER03-1369-002; ER03-1371-002; ER03-1370-003; ER03-1372-003.

Applicants: Cleco Power LLC; Cleco Marketing & Trading LLC; Cleco Evangeline LLC; Perryville Energy Partners, LLC; Acadia Power Partners LLC.

Description: Cleco Companies submit a compliance filing, pursuant to the Commission's order issued 5/25/05, 111 FERC ¶ 61,239

Filed Date: 06/24/2005.

Accession Number: 20050629-0265.

Comment Date: 5 p.m. eastern time on Friday, July 15, 2005.

Docket Numbers: ER03-1383-003; ER01-1418-003; ER01-1238-003; ER01-2928-006; ER01-1419-003; ER03-28-002; ER03-398-004.

Applicants: DeSoto County Generating Company, LLC; Effingham County Power, LLC; MPC Generating, LLC; Progress Ventures Inc.; Rowan County Power, LLC; Walton County Power, LLC; Washington County Power, LLC.

Description: DeSoto County Generating Company, LLC; Effingham County Power, LLC; MPC Generating, LLC, Progress Ventures, Inc., Rowan County Power, LLC, Walton County Power, LLC, and Washington County Power, LLC submit a compliance filing pursuant to the Commission's order issued 5/25/05 in Docket Nos. PA04-10-000 and PA04-12-000

Filed Date: 06/24/2005.

Accession Number: 20050629-0231.

Comment Date: 5 p.m. eastern time on Friday, July 15, 2005.

Docket Numbers: ER04-691-052.

Applicants: Midwest Independent Transmission System Operator, Inc.

Description: Midwest Independent Transmission System Operator, Inc., pursuant to the Commission's letter order issued 6/15/05 in Docket No. ER04-691-039, et al., submits proposed revisions to section 1.30a of Module A of the Midwest ISO's Open. Access Transmission & Energy Markets Tariff.

Filed Date: 06/23/2005.

Accession Number: 20050628-0070.

Comment Date: 5 p.m. eastern time on Thursday, July 14, 2005.

Docket Numbers: ER05-1124-000.

Applicants: Midwest Independent Transmission System Operator, Inc.

Description: Midwest Independent Transmission System Operator, Inc. submits proposed revisions to Attachment L (Credit Policy) of its open access transmission energy markets tariff Filed Date: 06/17/2005, as supplemented 6/20/2005.

Accession Number: 20050621-0014.

Comment Date: 5 p.m. eastern time on Friday, July 08, 2005.

Docket Numbers: ER05-1143-000.

Applicants: New England Power Company.

Description: New England Power Company, on behalf of the Rhode Island, Eastern Massachusetts, Vermont Energy Control, submits an amended REMVEC II Agreement.

Filed Date: 06/24/2005.

Accession Number: 20050629-0263.

Comment Date: 5 p.m. eastern time on Friday, July 15, 2005.

Docket Numbers: ER05-1144-000.

Applicants: IDACORP Energy, L.P.

Description: IDACORP Energy, L.P. submits notice of cancellation of its FERC Electric Tariff, Original Volume 1.

Filed Date: 06/24/2005.

Accession Number: 20050628-0064.

Comment Date: 5 p.m. eastern time on Friday, July 15, 2005.

Docket Numbers: ER05-1153-000.

Applicants: Mirant Delta, LLC.

Description: Mirant Delta, LLC submits revisions to its must-run service agreements with the California Independent System Operator Corporation.

Filed Date: 06/20/2005.

Accession Number: 20050629-0238.

Comment Date: 5 p.m. eastern time on Monday, July 11, 2005.

Docket Numbers: ER05-1158-000.

Applicants: Lone Star Steel Sales Company.

Description: Lone Star Steel Sales Company submits a notice of cancellation of its market-based rate tariff.

Filed Date: 06/23/2005.

Accession Number: 20050629-0244.

Comment Date: 5 p.m. eastern time on Thursday, July 14, 2005.

Docket Numbers: ER05-6-030; EL04-135-032; EL02-111-050; EL03-212-045

Applicants: Midwest Independent Transmission System Operator, Inc.

Description: PJM Interconnection, LLC submits an amendment to its 5/17/05 filing submitting revisions to Schedule 12 of the PJM Open Access Transmission Tariff.

Filed Date: 06/24/2005.

Accession Number: 20050628-0067.

Comment Date: 5 p.m. eastern time on Friday, July 15, 2005.

Docket Numbers: ER05-809-001.

Applicants: Midwest Independent Transmission System Operator, Inc.

Description: Midwest Independent Transmission System Operator, Inc., pursuant to the Commission's order issued 5/26/05 (111 FERC ¶ 61,250), submits proposed revisions to Attachment L of the Midwest ISO's Open Access Transmission & Energy Tariff, FERC Electric Tariff, Third Revised Volume No. 1.

Filed Date: 06/23/2005.

Accession Number: 20050628-0071.

Comment Date: 5 p.m. eastern time on Thursday, July 14, 2005.

Docket Numbers: ER05-893-002; ER05-895-002.

Applicants: Dominion Retail, Inc.; Elwood Energy LLC.

Description: Dominion Retail Inc. and Elwood Energy LLC submit amendments to their 4/28/05 & 6/2/05 filings under.

Filed Date: 06/24/2005.

Accession Number: 20050628-0069.

Comment Date: 5 p.m. eastern time on Friday, July 15, 2005.

Docket Numbers: ER05-954-001.

Applicants: USGen New England, Inc.

Description: USGen New England, Inc. submits an amendment to its 5/10/05 filing in Docket No. ER05-954-000, by requesting a cancellation date of 5/11/05 for their FERC Electric Tariff, Original Volume No. 1.

Filed Date: 06/22/2005.

Accession Number: 20050629-0228.

Comment Date: 5 p.m. eastern time on Wednesday, July 13, 2005.

Docket Numbers: ER05-1014-001; ER98-3184-009; ER00-494-002.

Applicants: TransAlta Energy Marketing (U.S.) Inc.; TransAlta Centralia Generation LLC.

Description: TransAlta Energy Marketing (U.S.) Inc and TransAlta Centralia Generation, LLC submit revised tariff sheets amending their 5/24/2005 filing.

Filed Date: 06/24/2005.

Accession Number: 20050629-0222.

Comment Date: 5 p.m. eastern time on Friday, July 15, 2005.

Docket Numbers: ER05-1097-001.

Applicants: BJ Energy LLC.

Description: BJ Energy LLC amends the information contained in the petition for acceptance of Initial Rate Schedule, Waivers & Blanket Authority filed on 6/9/05 in Docket No. ER05-1097-000.

Filed Date: 06/23/2005.

Accession Number: 20050628-0068.

Comment Date: 5 p.m. eastern time on Thursday, July 14, 2005.

Docket Numbers: ER99-2541-007; ER97-3556-015; ER99-221-010; ER99-220-012; ER01-1764-004; ER00-262-006.

Applicants: Carthage Energy, LLC; Energetix, Inc.; New York State Electric & Gas Corporation; NYSEG Solutions, Inc.; PEI Power II, LLC; South Glens Falls Energy, LLC.

Description: Carthage Energy, LLC, Energetix, Inc.; New York State Electric & Gas Corporation; NYSEG Solutions, Inc.; PEI Power II, LLC; and South Glens Falls Energy, LLC submit revised tariff sheets pursuant to the Commission's order issued 5/25/05, 111 FERC ¶ 61,240 (2005).

Filed Date: 06/24/2005.

Accession Number: 20050629-0250.

Comment Date: 5 p.m. eastern time on Friday, July 15, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3554 Filed 7-6-05; 8:45 am]

BILLING CODE 6717-01-P